DEPARTMENT OF ENERGY

Federal Energy Regulatory Commission

Notice of Commissioner and Staff Attendance at the National Association of Regulatory Utility Commissioners 2012 Winter Committee Meetings

The Federal Energy Regulatory Commission (FERC or Commission) hereby gives notice that members of the Commission and/or Commission staff may attend the following meetings:

FERC/National Association of Regulatory Utility Commissioners (NARUC), Collaboratives on Smart Response and Emerging Issues, February 5, 2012 (8:30 a.m.-12 p.m.), Renaissance Washington Hotel, 999 Ninth Street NW., Washington, DC 20001.

FERC/NARUC Forum on Reliability and the Environment, February 7, 2012 (2:30 p.m.-5:30 p.m.), Renaissance Washington Hotel, 999 Ninth Street NW., Washington, DC 20001.

Further information may be found at http://winter.narucmeetings.org/program.cfm.

The discussions at these meetings, which are open to the public, may address matters at issue in the following Commission proceedings:

Docket No. EL11-62-000, Public Service Commission of South Carolina and the South Carolina Office of Regulatory Staff

Docket No. AD12-1-000, Commission Role Regarding Environmental Protection Agency's Mercury and Air Toxics Standards

Dated: January 31, 2012.
Kimberly D. Bose,
Secretary.

[FR Doc. 2012-2573 Filed 2-3-12; 8:45 am]

BILLING CODE 6717-01-P